DEPARTMENT OF ENERGY

10 CFR Parts 429 and 430

[Docket No. EERE-2010-BT-CE-0014]

RIN 1904-AC23

Energy Conservation Program: Certification, Compliance, and Enforcement for Consumer Products and Commercial and Industrial Equipment; Correction

Correction

In rule document 2011-10401 appearing on pages 24762-24782 in the issue of May 2, 2011, make the following correction:

§ 429.54 [Corrected]

On page 14780, the formula for § 429.54(a)(2)(i)(B) should read:

And x is the sample mean; s is the sample standard deviation; n is the number of samples; and t0.99 is the t statistic for a 99% two-tailed confidence interval with n-1 degrees of freedom (from Appendix A).

[FR Doc. C1-2011-10401 Filed 8-1-11; 8:45 am]

BILLING CODE 1505-01-P